INTER-AMERICAN FOUNDATION

Sunshine Act Meetings

TIME AND DATE: May 6, 2019, 10:00 a.m.-2:00 p.m.

PLACE: Inter-American Foundation, 1331 Pennsylvania Ave. NW, Suite 1200 North Building, Washington, DC 20004.

STATUS: Meeting of the Board of Directors, Open to the Public.

MATTERS TO BE CONSIDERED:

• Approval of the Minutes from the November 19, 2018, Meeting of the Board of Directors and Advisory Council

• Agenda overview and updates from the last meeting

• IAF's 50th Anniversary

• Photos with IAF communications team

• Adjournment

CONTACT PERSON FOR MORE INFORMATION: Paul Zimmerman, General Counsel, (202) 683-7118.

Paul Zimmerman,
General Counsel.

[FR Doc. 2019-08832 Filed 4-26-19; 4:15 pm]

BILLING CODE 7025-01-P